FEDERAL COMMUNICATIONS COMMISSION

47 CFR Part 25

[IB Docket Nos. 06-160, 18-314, 20-330, 22-273; FCC 19-93, FCC 20-159, FCC 22-63, DA 24-271; FR ID 231569]

Amendments to Rules for Direct Broadcast Satellite, Satellite Services, and 17 GHz; Updates to Forms 312 and 312-R for the International Communications Filing System; Corrections to 17 GHz Report and Order

AGENCY: Federal Communications Commission.

ACTION: Final rule; announcement of effective date and correcting amendments.

SUMMARY: In this document, the Federal Communications Commission (Commission) announces that the Office of Management and Budget (OMB) has approved, for a period of three years, the information collections associated with the rules adopted in three rulemakings and with updates to the Form 312, including Schedules A, B, and S, and Form 312-R. Specifically, rules were adopted in: a Report and Order, FCC 19-93, in IB Docket No. 06-160 (DBS Licensing Report and Order); a Report and Order, FCC 20-159, in IB Docket No. 18-314 (Satellite Services Report and Order); and a Report and Order, FCC 22-63, in IB Docket Nos. 20-330 and 22-273, (17 GHz Report and Order). Each of those orders stated that the Commission would publish a document in the Federal Register announcing the effective date of those rules which were delayed indefinitely. The FCC is announcing the effective date of those rules. In addition, this document is also correcting non-substantive typographical errors in the 17 GHz Report and Order. Finally, this document also announces the updates to FCC Form 312, including Schedules A, B, and S, and FCC Form 312-R.

DATES: The following are effective August 16, 2024:

(1) The amendment to 47 CFR 25.136(h), published at 86 FR 11880 on March 1, 2021;

(2) The amendments to 47 CFR 25.108(c)(5) and (c)(6), 25.114(a)(3), and 25.140(b)(6), published at 86 FR 49484 on September 3, 2021;

(3) The amendments to 47 CFR 25.114(d)(7), (d)(15), and (d)(18), 25.115(e), (g) and (k), 25.117(d)(2)(v), 25.140(a)(2) and (a)(3), (b), and (d), 25.203 and 25.264, published at 87 FR 72388 on November 25, 2022;

(4) The corrections to §§ 24.140 and 25.264;

(5) The revisions to Form 312 (including Schedules A, B, and C) and Form 312R, published at 88 FR 21424.

FOR FURTHER INFORMATION CONTACT: Scott Mackoul, Space Bureau, at (202) 418-7498 or Scott.Mackoul@fcc.gov. For information regarding the PRA information collection requirements contained in the PRA, contact Cathy Williams, Office of Managing Director, at (202) 418-2918 or Cathy.Williams@fcc.gov.

SUPPLEMENTARY INFORMATION: This document announces that, on May 29, 2024, OMB approved the information collection requirements in 47 CFR 25.108(c)(5) through(c)(6), 25.114(a)(3), and 25.140(b)(6), as modified in the DBS Licensing Report and Order (86 FR 49484, September 3, 2021); 47 CFR 25.136(h), as modified in the Satellite Services Report and Order (86 FR 11880, March 1, 2021); and 47 CFR 25.114(d)(7), (d)(15), and (d)(18), 25.115(e), (g) and (k), 25.117(d)(2)(v), 25.140(a)(2) and (3), (b), and (d), 25.203 and 25.264 as modified in the 17 GHz Report and Order (87 FR 72388, November 25, 2022). The DBS Licensing Report and Order, the Satellite Services Report and Order, and the 17 GHz Report and Order, stated that the Commission would publish a document in the Federal Register announcing the effective date of those rules. This notice announces the effective date of those rules. The other rule amendments adopted in the three orders which did not require OMB approval became effective as identified in their respective Federal Register publications.

This document also summarizes an order adopted by the Commission's Space Bureau and Managing Director, released on March 19, 2024, that amends the final rules in the 17 GHz Report and Order, in order to correct non-substantive typographical errors. The full text of the 17 GHz Correction Order is available at https://docs.fcc.gov/public/attachments/DA-24-271A1.pdf.

Additionally, this document announces that, on May 29, 2024, OMB approved revisions to the Form 312, including Schedules A, B, and S, and Form 312-R, that stemmed from an update to the International Communications Filing System (ICFS), which is the Commission's filing system for earth station and space station applications filed pursuant to part 25 of the Commission's rules.

If you have any comments on the burden estimates listed below, or how the Commission can improve the collections and reduce any burdens caused thereby, please contact Cathy Williams, Federal Communications Commission, Cathy.Williams@fcc.gov, regarding OMB Control Number 3060-0678. Please include the applicable OMB Control Number(s) in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on May 29, 2024, for the information collection requirements contained in 47 CFR 25.108(c)(5) through (c)(6), 25.114(a)(3), and 25.140(b)(6); 47 CFR 25.136(h); and 47 CFR 25.114(d)(7), (d)(15), (d)(18), 25.115(e), (g) and (k), 25.117(d)(2)(v), 25.140(a)(2) through (a)(3), (b), and (d), 25.203 and 25.264. Also, as required by the Paperwork Reduction Act of 1995, the Commission is notifying the public that it received final OMB approval on May 29, 2024, for the information collection requirements contained in the revised Form 312, including Schedules A, B, and S, and the revised Form 312-R.

Under 5 CFR part 1320, an agency may not conduct or sponsor a collection of information unless it displays a current, valid OMB Control Number. No person shall be subject to any penalty for failing to comply with a collection of information subject to the Paperwork Reduction Act that does not display a current, valid OMB Control Number. The OMB Control Number for the information collection requirements in these rules is 3060-0678.

The foregoing notice is required by the Paperwork Reduction Act of 1995, Public Law 104-13, October 1, 1995, and 44 U.S.C. 3507.

The total annual reporting burdens and costs for the respondents are as follows:

OMB Control Number: 3060-0678.

OMB Approval Date: May 29, 2024.

OMB Expiration Date: May 31, 2027.

Title: Part 25 of the Federal Communications Commission's Rules Governing the Licensing of, and Spectrum Usage By, Commercial Earth Stations and Space Stations.

Form Number: FCC Form 312 (including Schedules A, B, and S) and FCC Form 312-R

Type of Review: Revision of an existing collection.

Respondents: Business or other for-profit, not-for-profit institutions.

Number of Respondents and Responses: 3,515 respondents and 3,567 responses.

Estimated Time per Response: 0.5-80 hours.

Frequency of Response: On occasion reporting requirement, one time and annual reporting requirements; third-party disclosure requirement; recordkeeping requirement.

Obligation to Respond: Required to obtain or retain benefits. The statutory authority for this information collection is contained in 47 U.S.C. 151, 154(i), 157, 301, 303, 307, 308, 309, and 310.

Total Annual Burden: 27,176.

Annual Cost Burden: $3,923,887.

Needs and Uses: The Commission will use the information collected under this revised information collection effect the policies adopted in three rulemakings and the updates to the Form 312, including Schedules A, B, and S, and Form 312-R that stemmed from an update to the Commission's filing system for earth station and space station applications filed pursuant to part 25 of the Commission's rules.

On September 27, 2019, the Commission released DBS Licensing Report and Order, which adopted a new licensing process for space stations in the Direct Broadcast Satellite Service (DBS). This new process allows applicants for DBS space station licenses to take advantage of a licensing process that parallels the Commission's streamlined part 25 satellite licensing rules for geostationary orbit (GSO) space stations in the fixed-satellite service (FSS). The Commission limited the regulatory burdens borne by applicants, while promoting new opportunities for efficient use of orbital spacing and spectrum by DBS licensees. The Commission's action supports and encourages the increasing innovation in the DBS sector and helps to preserve U.S. leadership in space-based services and operations. This information collection will provide the Commission and the public with necessary information about this area of satellite operations, and serves the public interest by streamlining the collection of information and allowing the Commission to authorize DBS space stations under the new process established in the DBS Licensing Report and Order. Specifically, the DBS Licensing Report and Order contains the following new or modified information collection requirements: space station applications for GSO space stations operating in the frequencies of the International Telecommunication Union (ITU) Appendices 30 and 30A (incorporated by reference, see 47 CFR 25.108) must include a statement that the proposed operation will take into account the applicable requirements of these Appendices of the ITU Radio Regulations and a demonstration that it is compatible with other U.S. ITU filings under Appendices 30 and 30A or, for any affected filings, a letter signed by the affected operator indicating that it consents to the new application.

On November 19, 2020, the Commission released Satellite Services Report and Order, which streamlined the Commission's rules governing satellite services by creating an optional framework for authorizing both the blanket-licensed earth stations and space stations of a satellite system through a unified license. The Satellite Services Report and Order also permitted earth station applicants to certify compliance with relevant satellite licenses in lieu of providing duplicative or unnecessary technical demonstrations, aligned the build-out requirements for earth stations and space stations, and eliminated unnecessary reporting rules. These changes reduce regulatory burdens, simplify the Commission's licensing of satellite systems, and provide additional operational flexibility. The Satellite Services Report and Order affected two information collections: OMB Control Numbers 3060-1215 and 3060-0678. The Commission received OMB approval for changes under OMB Control No. 3060-1215 on August 26, 2021, as reported in 86 FR 52102.

On August 3, 2022, the Commission released the 17 GHz Report and Order which amended the Commission's rules to permit geostationary satellite orbit (GSO) space stations to use the 17.3-17.7 GHz band in the fixed-satellite service (FSS) in the space-to-Earth direction on a co-primary basis with incumbent services and permit limited GSO FSS (space-to-Earth) use of the 17.7-17.8 GHz band on an unprotected basis with respect to fixed service operations. Specifically, the 17 GHz Report and Order contains the following new or modified information collection requirements:

• Certification of frequency coordination with the operator of the co-frequency space station or submission of an interference analysis demonstrating the compatibility of the proposed system with the co-frequency space station;

• Information as to earth station antenna characteristics to ensure that antennas are properly aimed and configured and that their signals are not likely to interfere with other systems; and

• Information pertaining to implementation of interference detection and mitigation plans to prevent and resolve interference issues.

This information collection will provide the Commission and the public with necessary information about this area of satellite operations and work to prevent interference, and serves the public interest by streamlining the collection of information and allowing the Commission to authorize operations contemplated in the 17 GHz Report and Order.

On March 19, 2024, the Commission's Space Bureau and Managing Director released an Order, DA 24-271 (17 GHz Correction Order), which amended the final rules in Appendix A of the 17 GHz Report and Order, in order to correct typographical errors in the final rules and to conform them with the publishing conventions of the Federal Register. The amendments are non-substantive and do not change any regulatory obligations. This determination is guided by the fact that the text of the 17 GHz Report and Order makes clear that the errors that remained in the text of the final rules were unintentional and typographical in nature. For example, one error was stating “17.3-18.8 GHz” instead of “17.3-17.8 GHz” when the rest of the text made clear that the correct text was “17.3-17.8 GHz.” Furthermore, the text of the final rules as published in the Federal Register was corrected to conform with the publishing conventions of the Federal Register. The Space Bureau and Managing Director found that notice and comment procedures are unnecessary under the “good cause” exception of the Administrative Procedure Act (APA) because the changes in the final rules in Appendix A of the 17 GHz Report and Order as released by the Commission adopted in the 17 GHz Correction Order merely correct typographical errors, align the final rules in Appendix A of the 17 GHz Report and Order as released by the Commission with the text of the final rules as published in the Federal Register, or conform the 17 GHz Report and Order as released by the Commission with the publishing conventions of the Federal Register. Consequently, the Space Bureau and Managing Director found notice and comment procedures are unnecessary for this action as the actions in the 17 GHz Correction Order constitute routine “clean-up” matters that entail no substantive decisions of any consequence or significance to industry or the general public.

Finally, the Commission recently updated ICFS—which was formerly named the International Bureau Filing System, see 88 FR 21424—which resulted in modifications to the Form 312, including Schedules A, B, and S, and Form 312-R. Applicants will be required to submit Form 312 (including Schedules A, B, and S) and Form 312-R through the updated, integrated web-based program. The updated version of Form 312 (including Schedules A, B, and S) and Form 312-R will include several minor changes to the information collection designed to provide clarity to applicants and Commission staff, reduce errors, and make overall improvements to the applicants' experience in completing the forms, including adding several questions designed to better convey the overall information being requested in the form.

List of Subjects in 47 CFR Part 25

Administrative practice and procedure, Earth stations, Satellites.

Federal Communications Commission.
Katura Jackson,
Federal Register Liaison Officer.

Final Rules

For the reasons discussed in the preamble, the Federal Communications Commission amends 47 CFR part 25 as follows:

PART 25—SATELLITE COMMUNICATIONS

1. The authority citation for part 25 continues to read as follows:

Authority: 47 U.S.C. 154, 301, 302, 303, 307, 309, 310, 319, 332, 605, and 721, unless otherwise noted.

§§ 25.140 and 25.264 [Amended]

2. Amend §§ 25.140(a)(3)(iii)(B) and 25.264(a)(6) by removing “17.3-18.8 GHz” and adding, in its place, “17.3-17.8 GHz.”

3. In § 25.264 amend paragraphs (b)(2)(ii), (b)(3), and (e) introductory text by removing “−117 dBW/m2/100 kHz” and adding, in their place, “−117 dBW/m²/100 kHz” in each instance where it appears.

[FR Doc. 2024-15465 Filed 7-16-24; 8:45 am]

BILLING CODE 6712-01-P